ENVIRONMENTAL PROTECTION AGENCY

40 CFR Part 281

[EPA-R05-UST-2020-0685; FRL-10020-06-Region 5]

Indiana: Final Approval of State Underground Storage Tank Program Revisions

AGENCY: Environmental Protection Agency (EPA).

ACTION: Proposed rule.

SUMMARY: Pursuant to the Resource Conservation and Recovery Act (RCRA or Act), the Environmental Protection Agency (EPA) proposes to take direct final action to approve revisions to the State of Indiana's Underground Storage Tank (UST) program submitted by the State. This action is based on EPA's determination that the State's revisions satisfy all requirements needed for UST program approval. In the “Rules and Regulations” section of this Federal Register, EPA is approving the changes by direct final rule because we believe this action is not controversial and do not expect comments that oppose it.

DATES: Send written comments by March 19, 2021.

ADDRESSES: Submit your comments, identified by EPA-R05-UST-2020-0685 by one of the following methods:

1. Federal eRulemaking Portal: https://www.regulations.gov. Follow the online instructions for submitting comments.

2. Email: Kamke.Sherry@epa.gov.

Instructions: Direct your comments to Docket ID No. EPA-R05-UST-2020-0685. EPA's policy is that all comments received will be included in the public docket without change and may be available online at https://www.regulations.gov, including any personal information provided, unless the comment includes information claimed to be Confidential Business Information (CBI) or other information whose disclosure is restricted by statute. Do not submit information that you consider to be CBI or otherwise protected through https://www.regulations.gov, or email. The federal https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment and with any disk or CD-ROM you submit. If EPA cannot read your comment due to technical difficulties, and cannot contact you for clarification, EPA may not be able to consider your comment. Electronic files should avoid the use of special characters, any form of encryption, and be free of any defects or viruses.

EPA encourages electronic submittals, but if you are unable to submit electronically, please reach out to EPA contact person listed in the notice for assistance with additional submission methods.

You can view and copy the documents that form the basis for this action and associated publicly available materials through www.regulations.gov.

FOR FURTHER INFORMATION CONTACT: Sherry Kamke, Environmental Engineer, Corrective Action Section #3, Remediation Branch (LR-17J), EPA Region 5, 77 West Jackson Boulevard, Chicago, Illinois 60604, (312) 353-5794, Kamke.Sherry@epa.gov. Out of an abundance of caution for members of the public and our staff, the EPA Region 5 office will be closed to the public to reduce the risk of transmitting COVID-19. We encourage the public to submit comments via https://www.regulations.gov or via email. Please call or email the contact listed above if you need alternative means to access the material provided in the docket.

SUPPLEMENTARY INFORMATION: In the final rules section of this Federal Register, EPA is approving the State's UST program submittal as a direct rule without prior proposal because the Agency views this as a noncontroversial submittal and anticipates no adverse comments. A detailed rationale for the approval is set forth in the direct final rule. If no relevant adverse comments are received in response to this action, no further activity is contemplated. If EPA receives relevant adverse comments, the direct final rule will be withdrawn, and all public comments received will be addressed in a subsequent final rule based on this proposed rule. EPA will not institute a second comment period. Any parties interested in commenting on this action should do so at this time. For additional information, see the direct final rule published in the “Rules and Regulations” section of this Federal Register.

Authority: This rule is issued under the authority of Sections 2002(a), 9004, and 7004(b) of the Solid Waste Disposal Act, as amended, 42 U.S.C. 6912, 6991c, 6991d, and 6991e.

Dated: February 9, 2021.
Cheryl Newton,
Acting Regional Administrator, Region 5.

[FR Doc. 2021-03169 Filed 2-16-21; 8:45 am]

BILLING CODE 6560-50-P